POSTAL REGULATORY COMMISSION

[Docket No. N2024-1; Order No. 7695]

Service Standard Changes

AGENCY: Postal Regulatory Commission.

ACTION: Notice.

SUMMARY: The Commission is acknowledging a recently-filed Postal Service request for an advisory opinion regarding planned changes to its processing and transportation networks. This document invites public comments on the request and addresses several related procedural steps.

DATES: Notices of intervention are due: October 21, 2024; Live WebEx Technical Conference: October 16, 2024, at 1 p.m., eastern daylight time, virtual.

ADDRESSES: Submit notices of intervention electronically via the Commission's Filing Online system at http://www.prc.gov. Persons interested in intervening who cannot submit their views electronically should contact the person identified in the FOR FURTHER INFORMATION CONTACT: David A. Trissell, General Counsel, at 202-789-6820.

SUPPLEMENTARY INFORMATION:

Table of Contents

I. Introduction

II. Pre-Filing Issues

III. The Request

IV. Initial Administrative Actions

V. Ordering Paragraphs

I. Introduction

On October 4, 2024, the Postal Service filed a request for an advisory opinion from the Commission regarding planned changes to its processing and transportation networks.¹ In particular, the Postal Service plans to create a nationwide network of Regional Processing and Distribution Centers (RPDCs) and Local Processing Centers (LPCs). Id. at 3. The Postal Service states that this initiative will “increase throughput, gain productivity, and increase asset utilization across the country.” Id. Additionally, the Postal Service intends to implement its Regional Transportation Optimization (RTO) initiative on a nationwide basis. Id. The Postal Service states that the RTO initiative will “improve the efficiency and velocity of the processing network.” Id. The Postal Service estimates that these two initiatives will allow it “to achieve estimated cost savings of between $3.6 billion and $3.7 billion on an annual basis once fully implemented.” Id.

¹ United States Postal Service's Request for an Advisory Opinion on Changes in the Nature of Postal Services, October 4, 2024 (Request). The Postal Service filed the instant Request at the direction of the Commission, following the Postal Service's initial presentation of these proposed changes as part of the changes associated with the Delivering for America Plan. See Docket No. PI2023-4, Order Directing Postal Service to Show Cause or File a Nature of Service Proceeding Regarding Certain Delivering for America Initiatives, April 26, 2024 (Order No. 7061).

The Postal Service also proposes to revise its service standards “to align with these operational initiatives. . . .” Id. Specifically, the Postal Service will “transition to 5-Digit to 5-Digit ZIP Code service standards” that reflect “the three operational legs applicable to the movement of mail and packages: collection to origin processing (Leg 1), origin processing to destination processing (Leg 2), and destination processing to delivery (Leg 3).” Id. at 4. The Postal Service asserts that despite these changes, it will preserve the existing day ranges for First-Class Mail, which is currently 1-5 days, and USPS Ground Advantage, which is 2-5 days. Id. Additionally, the Postal Service intends to “transition the service standards for end-to-end USPS Marketing Mail and USPS Package Services so that they are based on the standards for First-Class Mail and USPS Ground Advantage,” which will shorten the day ranges for those products as compared to current standards. Id. The Postal Service states that “[s]ome mail and packages will . . . have a service expectation that is longer than the current expectation (although still within the current day-ranges)” if its originating 5-Digit ZIP Code is subject to RTO. Id. at 5. Finally, the Postal Service states that it will also exclude Sundays and holidays as transit days in these new service standards. Id.

The intended effective date of the Postal Service's planned changes is no earlier than 90 days after the filing of the Request. Id. at 48. The Request was filed pursuant to 39 U.S.C. 3661 and 39 CFR part 3020. Before issuing its advisory opinion, the Commission shall accord an opportunity for a formal, on-the-record hearing pursuant to 5 U.S.C. 556 and 557. 39 U.S.C. 3661(c). This Order provides information on the Postal Service's planned changes, explains and establishes the process for the on-the-record hearing, and lays out the procedural schedule to be followed in this case.

II. Pre-Filing Issues

On August 22, 2024, the Postal Service filed a notice of its intent to conduct a pre-filing conference regarding its plans to transform its processing and transportation networks and to revise service standards to align with these changes.²

² Notice of Pre-Filing Conference, August 22, 2024, at 1.

On August 26, 2024, the Commission issued Order No. 7414, which established Docket No. N2024-1 to consider the Postal Service's proposed changes, notified the public concerning the Postal Service's pre-filing conference, and appointed a Public Representative.³ The Postal Service held its pre-filing conference virtually on September 5, 2024, at 1:00 p.m. Eastern Time (ET). See Request at 49. The Postal Service certifies that it has made a good faith effort to address concerns of interested persons about the Postal Service's proposal raised at the pre-filing conference. See id.

³ Notice and Order Concerning the Postal Service's Pre-Filing Conference, August 26, 2024 (Order No. 7414).

III. The Request

A. The Postal Service's Planned Changes

1. Processing and Transportation Networks

Currently, the Postal Service's legacy processing network consists of a mix of Processing and Distribution Centers (P&DCs) and Network Distribution Centers (NDCs), combined with “numerous ancillary facilities . . . .” Id. at 13. As a result of the current processing network facilities' conditions and age, their number and the piecemeal and ad hoc nature of their implementation, and the lack of operational standardization necessary to address the processing of mail and packages, the Postal Service determined that it must redesign the legacy network and “construct a network that enables [it] to handle mail and packages in a precise, efficient, and integrated manner. . . .” Id. at 13-14. The proposed processing network will be designed using a “regional concept,” and consist of two standardized facility types: (1) Regional Processing and Distribution Centers (RPDCs) and (2) Local Processing Centers (LPCs). Id. at 14.

RPDCs will manage “the flow of mail and packages that originate or destinate in that region.” Id. at 15. They will “perform originating sortation operations for letters, flats, and packages to the 3-digit ZIP Code level, for dispatch to the rest of the country.” Id. They will also “engage in cross-docking and sortation operations for destinating letters, flats, and parcels for dispatch to a LPC.” Id. Finally, they will “serve as intermediate consolidation points for volume that is traveling across the country (known as Regional Transfer Hub (RTH) operations).” Id.

LPCs will be designed to “handle destinating letter, flat, and package sortation operations for designated 3-Digit ZIP Codes within a region, for dispatch to Sorting and Delivery Centers (S&DCs) and delivery units.” Id. at 16. Some LPCs might “sort and/or cross-dock carrier route bundles of flats to S&DCs and delivery units” or perform “certain originating operations” as designated by the Postal Service. Id. They will also act as a consolidation point “for all volume types coming from the delivery network on the way to the RPDC.” Id.

Some LPCs might be co-located with RPDCs and some RPDC operations might be located “in a single building or a campus of two or more buildings” based on what the Postal Service determines is most efficient and cost-effective. Id. at 15-16. The Postal Service notes that each of the functions these new facility categories “are not rigid, and may be subject to varying adjustments and configurations based on local operational considerations . . . .” Id. at 16. The Postal Service intends to make these network changes on a region-by-region basis over the course of multiple years. Id.

In conjunction with these new facilities, the Postal Service also intends to implement its Regional Transportation Optimization (RTO) initiative on a nationwide basis. Id. at 21. While, according to the Postal Service, “[t]he volume of mail collected through [its] rental facilities (including mail collected on carrier routes and entered at Post Offices) has declined substantially in recent decades[,]” it has not “fundamentally adjusted” its associated collection processes and transportation network to account for the decline. Id. at 19. This has resulted in numerous transportation and processing inefficiencies as the Postal Service has continued its process of transporting destinating mail and packages from the processing network to collection or delivery facilities in the morning and transporting originating mail from collection or delivery facilities to the processing network in the afternoon. Id. at 19-20.

Instead, under RTO, “certain collection/delivery facilities will have their destinating mail dropped off, and their originating mail picked up, on the same transportation route.” Id. at 22. The Postal Service indicates that it will designate 5-Digit ZIP Codes for RTO “when the facility from which the collection mail and packages are dispatched is more than 50 miles from the RPDC campus.” Id. According to the Postal Service, RTO will enable it to redesign its transportation routes to reduce the number of trips and layovers and eliminate unnecessary or underutilized trips. Id. at 23.

2. Service Standards

Currently, the Postal Service's First-Class Mail and USPS Ground Advantage service standards “are predicated on plant-to-plant (i.e., on a 3-Digit to 3-Digit ZIP Code) driving distances.” Id. at 27. They do not consider the variations in transportation operations that are required to move volume from the collection point to the processing network. Id. The Postal Service proposes to “transition to 5-Digit to 5-Digit ZIP Code (i.e. Post Office to Post Office) service standards that maintain the existing delivery day ranges for both First-Class Mail and USPS Ground Advantage . . . .” Id. at 28. The Postal Service also proposes to “transition the service standards for end-to-end USPS Marketing Mail and Package Services so that they are based on the standards for First-Class Mail and USPS Ground Advantage, respectively, which will result in a shorter day range for these products when compared to the current service standards.” Id.

Under its proposed approach for inter-RPDC First-Class Mail and USPS Ground Advantage, the Postal Service would segment volume into three legs: collection to origin processing (Leg 1); origin processing facility to destination processing facility (Leg 2); and destination processing facility to delivery (Leg 3). Id. at 30. The proposed service standards “will be based on how many days cumulatively apply to a particular mailpiece across the three operational legs.” Id. For Leg 1, the Postal Service will “align our standards with RTO” and apply 1 day to pieces that “originate in a 5-Digit ZIP Code more than 50 miles from the RPDC, meaning RTO is being applied, and 0 days will apply to pieces originating in other 5-Digit ZIP Codes.” Id.

For Leg 2, the Postal Service will “apply [2-5] days based on the travel distance between the originating and destinating processing plants” using the new network outlined above. Id. at 30-31. The transit paths will be updated to reflect the new network and “measure the distance between the Origin RPDC and the Destination RPDC and then the distance between the Destination RPDC and the Destination LPC.” Id. at 34. With regard to Leg 2, the Postal Service states that because RTO and the new and more efficient network will improve arrival profiles, “each of the existing service standard bands will expand by four hours for First-Class Mail.” Id. at 34-36. No additional days will be added for Leg 3, “which is the same as the current standards.” Id. at 30.

The Leg 1 rules will not apply to “any products entered at a RPDC, Presort First-Class Mail, or any destination-entered volume.” Id. at 32. The Postal Service proposes to add an “extra day for volume that is entered in a 5-Digit ZIP Code subject to RTO[ ]” for its Priority Mail and Priority Mail Express products but still “intends for Priority Mail to remain a 1-3 day product,” and anticipates that “Priority Mail Express will be a 1-3 day (guaranteed) product.” Id. at 33-34. Finally, for mail and packages that originate and destinate within the same RPDC region, “[t]he proposed service standards would expand the geographic scope of turnaround volume (i.e., volume originating and destinating within a facility's service area).” Id. at 37. Currently, this “volume receives a two-day standard.” Id. Under the proposed standards, intra-LPC and intra-RPDC volume will either be subject to a 2 or 3-day standard depending on whether the originating volume is from a 5-digit ZIP Code beyond 50 miles of the cancellation location. Id. “The standards for end-to-end Marketing Mail, Periodicals, and Package Services within a region will also be based on these standards.” Id. The Postal Service outlines the proposed standards as follows:

Id. at 31.

Finally, the Postal Service intends to change how it measures performance under these standards. Id. at 40. “Specifically, the Postal Service will not count Sundays or holidays as transit days for volume entered on a Saturday or the day before a holiday.” Id. It will also “change the Service Performance Measurement system to enable measurement at the 5-Digit ZIP Code level . . . .” Id.

B. The Postal Service's Position

1. Processing and Transportation Networks

The Postal Service asserts that these network changes will “enable significant cost reductions in both processing operations and in [its] transportation network, while improving the work environment for [its] employees.” Id. at 18. It will enable the Postal Service to more efficiently balance its use of ground and air transportation and should result in a reduced number of surface and air nodes. Id. The Postal Service states that these modifications will eliminate “unnecessary trips” and increase utilization of the remaining trips. Id. It will also allow the Postal Service to further reduce costs through the elimination of “excess facilities.” Id.

Additionally, according to the Postal Service, the implementation of the RTO initiative on a nationwide basis will “result in significant improvements in transportation and processing operations.” Id. at 22. It will result in a reduced number of trips and layovers, which will in turn reduce carbon emissions and increase utilization of the Postal Service's transportation resources. Id. at 23. The Postal Service also states that the RTO initiative will improve “the efficiency and velocity of the processing network,” by creating efficient “operating windows in originating and processing facilities” because non-RTO volume may be processed and dispatched earlier than under its current transportation policy. Id.

Overall, the Postal Service estimates that it will save “between $3.6 and $3.7 billion annually in Leg 1 and Leg 2 transportation costs, mail and package processing costs, and facility costs[ ]” through the implementation of these two initiatives. Id. at 23. Table 1 below details the Postal Service's estimated annual cost savings, organized by category. The Postal Service cautions that because it intends to implement these initiatives “through a deliberate implementation plan over time,” that not all savings will be achieved immediately. Id. at 26. Thus, “[t]his approach reasonably estimates the expected future savings from these initiatives when fully implemented.” Id.

Table 1—Estimated Annual Cost Savings by Category
Category | Estimated annual cost savings
Regional Transportation | $651 million.
Network Transportation | $1.8 billion ($1.1 billion from surface transportation and $701 million from air transportation).
Mail and Package Processing | $1.1-$1.2 billion.
Facilities | $81 million.

Id. at 24-25.

2. Service Standards

The Postal Service states that under the new standards, “the majority of overall market-dominant volume” will have “either the same service standards . . . or an accelerated standard.” Id. at 38. And while the specific volume impacts were filed under seal for competitive products, the Postal Service states that “the overall impact of these proposed changes is that the majority of packages will either have the same service standard or a better standard, consistent with the fact that a majority of package volume is entered in ZIP Codes that are within 50 miles of” the processing network. Id. at 40. Table 2 below details “the impact on all market-dominant volume, including end-to-end and destination entry. Id. at 38.

Table 2—Estimated Volume Changes Under Proposed Service Standards
Products | Estimated % of volume change
All Market Dominant Products | 83% unchanged, 11% upgraded, 6% downgraded.
First-Class Mail | 75% unchanged, 14% upgraded, 11% downgraded.
Marketing Mail | 90% unchanged, 8% upgraded, 2% downgraded.
Periodicals | 93% unchanged, 4% upgraded, 3% downgraded.
Package Services ⁴ | 79% unchanged, 12% upgraded, 9% downgraded.

Id. at 38-39.

⁴ Package Services refers to a Market Dominant class of mail products intended for non-urgent delivery of books, catalogs, and other printed materials such as Media Mail/Library Mail. It does not refer to the Postal Service's Competitive package products such as USPS Ground Advantage.

Id. at 38.

C. The Postal Service's Direct Case

The Postal Service is required to file its direct case along with the Request. See 39 CFR 3020.114. The Postal Service's direct case includes all the prepared evidence and testimony upon which the Postal Service proposes to rely on in order to establish that its proposal accords with and conforms to the policies of title 39, United States Code. See id. The Postal Service provides the direct testimony of five witnesses and identifies a sixth individual to serve as its institutional witness and provide information relevant to the Postal Service's proposal that is not provided by other Postal Service witnesses. See Request at 50-52. Table 3 below details the Postal Service's direct case, organized by witness.

Table 3—Postal Service Witnesses
1. Stephen Hagenstein | • Description of the proposed revisions to service standards, including the three legs • Explanation of inefficiencies of current network's first leg • Description of how RTO initiative corrects those inefficiencies • Anticipated flow of mail and package volume within the RPDC/LPC network • Estimated impact of proposed service standards on 5-Digit ZIP pairs | USPS-T-1.
2. Arslan Saleem | • Explanation of how the proposed changes will be addressed in measurement (including through revisions to the Service Performance Measurement (SPM) Plan) • Explanation of the exclusion of Sundays and holidays as transit days • Estimate of impacts on mail volumes • Explanation of performance measurement based on 5-Digit ZIP code | USPS-T-2.
3. Leslie Johnson-Frick | • Description of how RTO changes will not impact local mail collection and delivery • Explanation of how local office operations might change to accommodate the RTO initiative • Explanation of how changes will be communicated to customers • Explanation of measures to ensure timely delivery of Election Mail | USPS-T-3.
4. Gregory White | • Explanation of how the RPDC/LPC network changes and RTO initiative will improve processing effectiveness and produce cost savings • Description of the standard operating procedures for the RPDCs and LPCs | USPS-T-4.
5. Curtis Whiteman | • Discussion of the estimated cost savings • Description of the methodology used to calculate the estimated savings | USPS-T-5.
6. Sharon Owens | • Institutional witness capable of providing information relevant to the Postal Service's proposal that is not provided by other Postal Service witnesses | None filed.

Id. at 51-52.

Additionally, the Postal Service filed 17 library references, 8 of which are available to the public and 9 of which are designated as non-public material.

Table 4—Postal Service Library References
USPS-LR-N2024-1-1 | RTO Determination Based on Distance from RPDC | Stephen Hagenstein.
USPS-LR-N2024-1-2 | Planned RPDCs and LPCs | Stephen Hagenstein.
USPS-LR-N2024-1-3 | Service Standard Changes to Market Dominant Products | Stephen Hagenstein.
USPS-LR-N2024-1-4 | Revised USPS Service Performance Measurement Plan | Arslan Saleem.
USPS-LR-N2024-1-5 | Revised Implementation Document for Service Performance Measurement Plan | Arslan Saleem.
USPS-LR-N2024-1-6 | Market Dominant Mail Volume Impact Analysis in Future State | Arslan Saleem.
USPS-LR-N2024-1-7 | Legacy Processing Assignments | Gregory White.
USPS-LR-N2024-1-8 | Facilities and Operating Cost Savings from STC Insourcing | Gregory White.
USPS-LR-N2024-1-NP1 | LTO Model Explanation and Pilot Results | Stephen Hagenstein.
USPS-LR-N2024-1-NP2 | Leg 2 Modeling Inputs, Explanation and Results | Stephen Hagenstein.
USPS-LR-N2024-1-NP3 | Service Standard Changes to Competitive Products | Stephen Hagenstein.
USPS-LR-N2024-1-NP4 | Competitive Products Volume with Start-the-Clock on Saturday or Day Before Holiday | Arslan Saleem.
USPS-LR-N2024-1-NP5 | Competitive Product Mail Volume Impact Analysis in Future State | Arslan Saleem.
USPS-LR-N2024-1-NP6 | Impacts on Pharmaceutical Volume | Arslan Saleem.
USPS-LR-N2024-1-NP7 | Competitive Product Volume Impact in Future State | Arslan Saleem.
USPS-LR-N2024-1-NP8 | LDC Productivity Rates and Workhours | Gregory White.
USPS-LR-N2024-1-NP9 | Site-Specific Machine Productivity Information | Gregory White.
Note: The Postal Service filed the non-public library reference under seal (shaded in the above table), asserting it consists of commercially sensitive business information, specifically transportation costs and modeling, information related to the Postal Service's competitive products, and site- and machine-specific processing capabilities and productivity rates for competitive products. See Notice of United States Postal Service of Filing of Library References and Application for Non-Public Treatment, October 4, 2024, Application of the United States Postal Service for Non-Public Treatment at 4-8.

IV. Initial Administrative Actions

A. General Procedures

The procedural rules in 39 CFR part 3020 apply to Docket No. N2024-1. Before issuing its advisory opinion, the Commission shall accord an opportunity for a formal, on-the-record hearing pursuant to 5 U.S.C. 556 and 557. 39 U.S.C. 3661(c). The Commission will sit en banc for Docket No. N2024-1. See 39 CFR 3020.122(b). The form and manner for any hearings to be held in Docket No. N2024-1 shall be established by Commission Order or Presiding Officer Ruling at a later date.

B. Scope

Docket No. N2024-1 is limited in scope to the specific changes proposed by the Postal Service in its Request. See 39 CFR 3020.102(b). To the extent that participants raise alternative proposals and present reasons why those alternatives may be superior to the Postal Service's proposal, the Commission would interpret such discussion as critiquing the specific changes proposed by the Postal Service in its Request.⁵ However, the Commission would not evaluate or opine on the merits of such alternative proposals in its advisory opinion. See Order No. 2080 at 18. Pursuant to its discretion, the Commission may undertake evaluation of alternatives or other issues raised by participants in separate proceedings (such as special studies or public inquires). See 39 CFR 3020.102(b). Moreover, any interested person may petition the Commission to initiate a separate proceeding (such as a rulemaking or public inquiry) at any time. See 39 CFR 3010.201(b) (initiation of notice and comment proceedings).

⁵ See Docket No. RM2012-4, Order Adopting Amended Rules of Procedure for Nature of Service Proceedings Under 39 U.S.C. 3661, May 20, 2014, at 18 (Order No. 2080).

C. Designation of Presiding Officer

Pursuant to 39 CFR 3010.106, the Commission appoints Stephanie A. Quick to serve as presiding officer in Docket No. N2024-1, effective immediately. Ms. Quick shall have the authority delegated to the presiding officer under 39 CFR 3010.106(c), except for regulating the course of public conferences and hearings. See 39 CFR 3010.106(c)(2). The Commission expands Ms. Quick's authority to allow her to propound formal discovery requests upon any party, at her discretion. The numerical limitation on interrogatories appearing in 39 CFR 3020.117(a) shall not apply to the presiding officer. The Commission also authorizes the presiding officer to rule on procedural issues such as motions for late acceptance and discovery-related matters such as motions to be excused from answering discovery requests. The presiding officer shall have authority to issue any ruling in this docket not otherwise specifically reserved to the Commission by 39 CFR 3020 and 3010.106. Commissioner Ashley Poling shall preside over the technical conference and any hearings conducted as part of this proceeding. Commissioner Poling shall have all the authority of the presiding officer, including but not limited to convening, adjourning, and ruling on oral motions made during the hearings.

D. Procedural Schedule

The Commission establishes a procedural schedule, which appears below the signature of this Order as Attachment 1. See 39 CFR 3010.151, 3020.110; see also 39 CFR part 3020 appendix A. Generally, the procedural schedule for a nature of service proceeding requires that the advisory opinion be issued within 90 days from the date of the filing of the Postal Service's request. See 39 CFR 3020.110. Due to the breadth and complexity of the Postal Service's request, as well as the number of federal holidays that occur in the next 90 days, the Commission finds good cause to deviate from the pro forma procedural schedule, including extending the issuance date of the advisory opinion to 120 days. See 39 CFR part 3020 appendix A. These dates may be further changed if good cause is shown, if the Commission later determines that the Request is incomplete, if the Commission determines that the Postal Service has significantly modified the Request, or for other reasons as determined by the Commission. See 39 CFR 3020.110(b) and (c).

E. How To Access Material Filed in This Proceeding

1. Using the Commission's Website

The public portions of the Postal Service's filing are available for review on the Commission's website (http://www.prc.gov). The Postal Service's electronic filing of the Request and prepared direct evidence effectively serves the persons who participated in the pre-filing conference. See 39 CFR 3020.104. Other material filed in this proceeding will be available for review on the Commission's website, unless the information contained therein is subject to an application for non-public treatment.

2. Using Methods Other Than the Commission's Website

The Postal Service must serve hard copies of its Request and prepared direct evidence “only upon those persons who have notified the Postal Service, in writing, during the pre-filing conference(s), that they do not have access to the Commission's website.” 39 CFR 3020.104. If you demonstrate that you are unable to effectively use the Commission's Filing Online system or are unable to access the internet, then the Secretary of the Commission will serve material filed in Docket No. N2024-1 upon you via First-Class Mail. See 39 CFR 3010.127(b) and (c). You may request physical service by mailing a document demonstrating your need to the Office of Secretary and Administration, Postal Regulatory Commission, 901 New York Avenue NW, Suite 200, Washington, DC 20268-0001. Pursuant to 39 CFR 3010.127(c), the Secretary shall maintain a service list identifying no more than two individuals designated for physical service of documents for each party intervening in this proceeding. Accordingly, each party must ensure that its listing is accurate and should promptly notify the Secretary of any errors or changes. See 39 CFR 3010.127(c).

3. Non-Public Material

The Commission's rules on how to file and access non-public material appear in 39 CFR part 3011. Each individual seeking non-public access must familiarize themselves with these provisions, including the rules governing eligibility for access; non-dissemination, use, and care of the non-public material; sanctions for violations of protective conditions; and how to terminate or amend access. See 39 CFR 3011.300, 3011.302-.304. Any person seeking access to non-public material must file a motion with the Commission containing the information required by 39 CFR 3011.301(b)(1)-(4). Each motion must attach a description of the protective conditions and a certification to comply with protective conditions executed by each person or entity (and each individual working on behalf of the person or entity) seeking access. 39 CFR 3011.301(b)(5)-(6). To facilitate compliance with 39 CFR 3011.301(b)(5)-(6), a template Protective Conditions Statement and Certification to Comply with Protective Conditions appears below the signature of this Order as Attachment 2, for completion and attachment to a motion for access. See 39 CFR part 3011 subpart C, appendix A. Persons seeking access to non-public material are advised that actual notice provided to the Postal Service pursuant to 39 CFR 3011.301(b)(4) will expedite resolution of the motion, particularly if the motion for access is uncontested by the Postal Service.

Non-public information must be redacted from filings submitted through the Commission's website; instead, non-public information must be filed under seal as required by 39 CFR part 3011 subpart B.

F. How To File Material in This Proceeding

1. Using the Commission's Filing Online System

Except as provided in 39 CFR 3010.120(a),⁶ all material filed with the Commission shall be submitted in electronic format using the Filing Online system, which is available over the internet through the Commission's website. The Commission's website accepts filings during the Commission's regular business hours, which are from 8:00 a.m. through 4:30 p.m. Eastern Time (ET), except for Saturdays, Sundays, and Federal holidays. A guide to using the Filing Online system, including how to create an account, is available at https://www.prc.gov/how-to-participate. If you have questions about how to use the Filing Online system, please contact the dockets clerk by email at dockets@prc.gov or telephone at (202) 789-6800, option 2. Please be advised that the dockets clerk can only answer procedural questions but may not provide legal advice or recommendations.

⁶ The Commission's Filing Online system allows account holders to file materials that contain non-public information. See Postal Regulatory Commission eDockets User Guide, at 39, available at https://www.prc.gov/sites/default/files/PRC%20eFiling%20User%20Guide_06092023.pdf. The filer must adhere to the requirements of 39 CFR 3011 subpart B, including the requirement to concomitantly provide an application for non-public treatment, a redacted (public) version of the non-public materials, and an unredacted (sealed) version of the non-public materials. See 39 CFR 3011.200(a).

2. Using Methods Other Than the Commission's Filing Online System

Material may be filed using a method other than the Commission's website only if at least one of the following exceptions applies:

• The material cannot reasonably be converted to electronic format,

• The filer is unable to effectively use the Commission's Filing Online system and the document is 10 pages or fewer, or

• The Secretary has approved an exception to the requirements to use the Commission's Filing Online system based on a showing of good cause.

39 FR 3010.120(a).

Material subject to these exceptions may be filed by mail to the Office of Secretary and Administration, Postal Regulatory Commission, 901 New York Avenue NW, Suite 200, Washington, DC 20268-0001. The posting of mailed materials to the Commission's website may be delayed.

G. Technical Conference

1. Date and Purpose

A technical conference will be held live via Microsoft Teams on October 16, 2024, at 1:00 p.m. ET. The technical conference is an informal, off-the-record opportunity to clarify technical issues as well as to identify and request information relevant to evaluating the Postal Service's proposed changes. See 39 CFR 3020.115(c). The technical conference will be limited to information publicly available in the Request. Any non-public information, including information in non-public library references attached to the Request, should not be raised at the technical conference. At the technical conference, the Postal Service will make available for questioning its five witnesses whose direct testimony was filed along with the Request and a sixth individual to serve as its institutional witness, who will provide information relevant to the Postal Service's proposal that is not provided by other Postal Service witnesses. See Request at 51-52; see also 39 CFR 3020.113(b)(6)-(7), 3020.115(b). The names and topics to which these six individuals are prepared to address are summarized above in section III.C., table 3, infra.

2. How To Livestream the Technical Conference

The technical conference will be broadcast to the public via livestream, which will allow the public to view and listen to the technical conference, as it is occurring and after. To view and listen to the livestream, on or after 1 p.m. ET on October 16, 2024, an individual must click on the internet link that will be identified on the Commission's YouTube Channel, which is available at https://www.youtube.com/channel/UCbHvK-S8CJFT5yNQe4MkTiQ. Individuals do not have to register in advance to access the livestream. Please note that the livestream is a broadcast; therefore, there is a brief delay (several seconds) between the technical conference being captured on camera and being displayed to viewers of the livestream. Additionally, please note that clicking on the livestream link will not allow an individual the opportunity to question the Postal Service's six witnesses. Details on how to participate in the live technical conference event (and have the opportunity to question the Postal Service's six witnesses) follow.

3. How To Participate in the Technical Conference

To participate in this live technical conference and have the opportunity to ask questions of the Postal Service's six witnesses, an individual need not formally intervene in this docket but must register in advance as follows. Each individual seeking to participate in the live technical conference via Microsoft Teams using an individual device (e.g., a desktop computer, laptop, tablet, or smart phone) must register by sending an email to Registration@prc.gov, with the subject line “N2024-1 Conference Registration” by October 15, 2024. In order to facilitate orderly public participation, this email shall provide the following information:

• your first and last name;

• your email address (to receive the Microsoft Teams link);

• the name(s) of the Postal Service witness(es) you would like to question and/or the topic(s) of your question(s); and

• your affiliation (if you are participating in your capacity as an employee, officer, or member of an entity such as a corporation, association, or government agency).

The Registration@prc.gov email address is established solely for the exchange of information relating to the logistics of registering for, and participating in, the technical conference.⁷ No information related to the substance of the Postal Service's Request shall be communicated, nor shall any information provided by participants apart from the list identified above be reviewed or considered. Only documents filed with the Commission's docket system will be considered by the Commission. Before the technical conference, the Commission will email each identified individual a Microsoft Teams link, an explanation of how to connect to the technical conference, and information regarding the schedule and procedures to be followed.

⁷ Please refer to the Commission's privacy policy which is available at https://www.prc.gov/privacy.

4. Availability of Materials and Recording

To facilitate discussion of the matters to be explored at the technical conference, the Postal Service shall, if necessary, file with the Commission any materials not already filed in Docket No. N2024-1 (such as PowerPoint presentations or Excel spreadsheets) that the Postal Service expects to present at the technical conference by October 15, 2024. Doing so will foster an orderly discussion of the matters under consideration and facilitate the ability of individuals to access these materials should technical issues arise for any participants during the live technical conference. If feasible, the recording will be available on the Commission's YouTube Channel at https://www.youtube.com/channel/UCbHvK-S8CJFT5yNQe4MkTiQ.

Participants in the live technical conference, by participating, consent to such recording and posting. Information obtained during the technical conference or as a result of the technical conference is not part of the decisional record, unless admitted under the standards of 39 CFR 3010.322. See 39 CFR 3020.115(e).

The Commission reserves the right to cancel the technical conference should no parties register an intent to question the Postal Service's six witnesses.

H. How To Intervene (Become a Party to This Proceeding)

To become a party to this proceeding, a person or entity must file a notice of intervention by October 21, 2024.⁸ This filing must clearly and concisely state: (1) the nature and extent of the intervenor's interest in the issues (including the postal services used); (2) the intervenor's position on the proposed changes in services (to the extent known); (3) whether or not the intervenor requests a hearing; and (4) whether or not the intervenor intends to actively participate in the hearing. See 39 CFR 3010.142(b). Page one of this filing shall contain the name and full mailing address of no more than two persons who are to receive service, when necessary, of any documents relating to this proceeding. See id. A party may participate in discovery; file testimony and evidence; conduct written examination of witnesses; conduct limited oral cross-examination; file briefs, motions, and objections; and present argument before the Commission or the presiding officer. See id. sections 3010.142(a); 3020.122(e). An opposition to a notice of intervention is due within 3 days after the notice of intervention is filed. See id. section 3010.142(d)(2).

⁸ Neither the Public Representative nor the Postal Service must file a notice of intervention; both are automatically deemed parties to this proceeding. See 39 CFR 3010.142(a).

I. Discovery

1. Generally Applicable Discovery Procedures

Discovery requests may be propounded upon filing a notice of intervention. Discovery that is reasonably calculated to lead to admissible evidence is allowed. See 39 CFR 3020.116(a). Each party must familiarize themselves with the Commission's rules appearing in 39 CFR part 3020, including the rules for discovery in N-dockets generally and specific to interrogatories, requests for the production of documents, and requests for admissions. See 39 CFR 3020.116-3020.119. No party may propound more than a total of 25 interrogatories (including both initial and follow-up interrogatories) without prior approval by the Commission or presiding officer.⁹

⁹ See 39 CFR 3020.117(a); Order No. 2080 at 42; see also Docket No. N2021-1, Order Affirming Presiding Officer's Ruling No. N2021-1/9, May 26, 2021, at 9 (Order No. 5901).

Each answer to a discovery request is due within 7 days after the discovery request is filed.¹⁰ Any motion seeking to be excused from answering any discovery request is due within 3 days after the discovery request is filed. See 39 CFR 3020.105(b)(1). Any response to such motion is due within 2 days after the motion is filed. See id. section 3020.105(b)(2). The Commission expects parties to make judicious use of discovery, objections, and motions practice, and encourages parties to make every effort to confer to resolve disputes informally before bringing disputes to the Commission to resolve.

¹⁰ See 39 CFR 3020.117(b)(4), 3020.118(b)(1), 3020.119(b)(1). Filing an opposition to a notice of intervention shall not delay this deadline. See 39 CFR 3010.142(d)(3).

2. Discovery Deadlines for the Postal Service's Direct Case

All discovery requests regarding the Postal Service's direct case must be filed by November 5, 2024. All discovery answers by the Postal Service must be filed by November 12, 2024. The parties are urged to initiate discovery promptly, rather than to defer filing requests and answers to the end of the period established by the Commission.

J. Rebuttal Case Deadlines

A rebuttal case is any evidence and testimony offered to disprove or contradict the evidence and testimony submitted by the Postal Service. A rebuttal case does not include cross-examination of the Postal Service's witnesses or argument submitted via a brief or statement of position. Any party that intends to file a rebuttal case must file a notice confirming its intent to do so by November 27, 2024. Any rebuttal case, consisting of any testimony and all materials in support of the case, must be filed by December 4, 2024.

K. Surrebuttal Case Deadlines

A surrebuttal case is any evidence and testimony offered to disprove or contradict the evidence and testimony submitted by the rebutting party. A surrebuttal case does not include cross-examination of the rebutting party's witnesses or argument submitted via a brief or statement of position. Any party that intends to file a surrebuttal case must obtain the Commission's prior approval and must bear the burden of demonstrating exceptional circumstances that would warrant granting the motion. See 39 CFR 3020.121(b). Any motion for leave to file a surrebuttal case is due December 6, 2024. Any response to such motion is due December 10, 2024. Any surrebuttal case, consisting of any testimony and all materials in support of the case, must be filed by December 13, 2024.

L. Hearing Dates

The Commission expects that this case will require no more than 1 or 2 business days for hearing, but reserves 3 business days out of an abundance of caution and consistent with the pro forma schedule set forth in appendix A of 39 CFR part 3020. If no party files a notice of intent to file a rebuttal case by November 27, 2024, then the hearing of the Postal Service's direct case shall begin December 4, 2024, with additional days reserved on December 5, 2024, and December 6, 2024.

If any party files a notice of intent to file a rebuttal case by November 27, 2024, but no surrebuttal testimony will be presented, then the hearing of the Postal Service's direct case shall begin December 11, 2024, with additional days reserved on December 12, 2024, and December 13, 2024.

If any party files a notice of intent to file a rebuttal case by November 27, 2024, and the Commission approves the presentation of surrebuttal testimony, then the hearing of the Postal Service's direct case shall begin December 18, 2024, and the hearing of the surrebuttal case shall end December 20, 2024.

M. Presentation of Evidence and Testimony

Evidence and testimony shall be in writing and may be accompanied by a trial brief or legal memoranda. 39 CFR 3020.122(e)(1). Whenever possible and particularly for factual or statistical evidence, written cross-examination will be used in lieu of oral cross-examination. Id. section 3020.122(e)(2).

Oral cross-examination will be allowed to clarify written cross-examination and/or to test assumptions, conclusions, or other opinion evidence. Id. section 3020.122(e)(3). Assuming that no rebuttal case is filed, any party that intends to conduct oral cross-examination shall file a notice of intent to do so by November 25, 2024. The notice must include an estimate of the amount of time requested for each witness.

In lieu of submitting hard copy documents to the Commission as contemplated by 39 CFR 3020.122(e)(2), each party shall file a single document titled “Notice of Designations” containing a list for each witness that identifies the materials to be designated (without the responses). The filing party shall arrange its list for each witness in alphabetical order by the name of the party propounding the interrogatory followed by numerical order of the interrogatory. For example:

Designations for Witness One

ABC/USPS-T1-1

ABC/USPS-T1-3

DEF/USPS-T1-1

GHI/USPS-T1-3

JKL/USPS-T1-2

Designations for Witness Two

DEF/USPS-T2-4

GHI/USPS-T2-2

Assuming that no rebuttal case is filed, each party shall file its Notice of Designations by November 26, 2024.

Assuming that no rebuttal case is filed, on December 2, 2024, the Postal Service shall file a “Notice of Designated Materials” identifying any corrections to the testimony or designated materials for each witness sponsored by the Postal Service. Attached to that notice shall be an Adobe PDF file that contains the witness's designated written responses in alphabetical order by the name of the party propounding the interrogatory followed by numerical order of the interrogatory (with any corrections to the responses highlighted). The Postal Service shall also contemporaneously file any corrections to testimony (with those corrections highlighted).

N. Presentation of Argument

1. General Procedures

Any person that has intervened in Docket No. N2024-1 (and thereby formally became a party to this proceeding) may submit written argument by filing a brief or a statement of position; they also may request to present oral argument at the hearing. See 39 CFR 3020.123; see also 39 CFR 3010.142(a). Any person that has not intervened in Docket No. N2024-1 may submit written argument by filing a statement of position. See 39 CFR 3020.123(g); see also 39 CFR 3010.142(a).

2. Presentation of Written Argument

A brief is a written document that addresses relevant legal and evidentiary issues for the Commission to consider and must adhere to the requirements of 39 CFR 3020.123(a)-(f). A statement of position is a less formal version of a brief that describes the filer's position on the Request and the information on the existing record in support of that position. See 39 CFR 3020.123(g).

a. Briefing Deadlines

Assuming that no rebuttal case is filed, initial briefs are due December 12, 2024, and reply briefs are due December 19, 2024. If any party files a notice confirming its intent to file a rebuttal case by November 27, 2024, then the briefing schedule may be revised.

b. Deadline for Statement of Position

Any interested person, including anyone that has not filed a notice of intervention and become a party to this proceeding, may file a statement of position. See 39 CFR 3020.123(g); see also 39 CFR 3010.142(a). A statement of position is limited to the existing record and may not include any new evidentiary material. See 39 CFR 3020.123(g). Filings styled as a brief or comments, conforming with the content and timing requirements, shall be deemed statements of positions. Any statement of position is due December 12, 2024.

3. Request To Present Oral Argument

Oral argument has not historically been part of N-cases; the Commission would only grant a request to present oral argument upon an appropriate showing of need by the presenting party. See Order No. 2080 at 53. Assuming that no rebuttal case is filed, any party may file a request to present oral argument by November 25, 2024.

O. The Commission's Advisory Opinion

In section IV.D., the Commission stated that it found good cause to modify the procedural schedule such that the Commission shall issue its advisory opinion within 120 days of the filing of the Request. Therefore, absent a determination of good cause for further extension, the Commission shall issue its advisory opinion in this proceeding by January 31, 2025. “The opinion shall be in writing and shall include a certification by each Commissioner agreeing with the opinion that in his [or her] judgment the opinion conforms to the policies established under [title 39, United States Code].” 39 U.S.C. 3661(c). The advisory opinion shall address the specific changes proposed by the Postal Service in the nature of postal services. See 39 CFR 3020.102(b). The Commission encourages the Postal Service to consider the recommendations from the advisory opinion before moving forward with implementation.

P. Public Representative

Pursuant to 39 U.S.C. 3661(c), Ping Gong shall continue to serve as an officer of the Commission (Public Representative) to represent the interests of the general public in this proceeding. See Order No. 7414 at 3.

V. Ordering Paragraphs

It is ordered:

1. The procedural schedule for this proceeding is set forth below the signature of this Order.

2. Pursuant to 39 CFR 3010.106 and 3020.122(b), the Commission appoints Stephanie A. Quick to serve as presiding officer in Docket No. N2024-1, effective immediately.

3. Stephanie A. Quick is authorized to propound formal discovery requests upon any party, at her discretion. The numerical limitation on interrogatories appearing in 39 CFR 3020.117(a) shall not apply to the Presiding Officer.

4. Stephanie A. Quick is authorized to rule on procedural issues such as motions for late acceptance and discovery-related matters such as motions to be excused from answering discovery requests.

5. Stephanie A. Quick is authorized to make other rulings in this Docket not otherwise specifically reserved to the Commission according to 39 CFR 3020 and 3010.106.

6. Pursuant to 39 U.S.C. 3661(c), Ping Gong shall continue to serve as an officer of the Commission (Public Representative) to represent the interests of the general public in this proceeding.

7. The Secretary shall arrange for publication of this Order in the Federal Register.

By the Commission.
Erica A. Barker,
Secretary.

Procedural Schedule for Docket No. N2024-1
[Established by the Commission, October 8, 2024]
Technical Conference Dates:
Deadline to Email Registration@prc.gov to Register to Participate in the Live Technical Conference via Microsoft Teams | October 15, 2024.
Filing of the Postal Service's Materials (if any) for the Technical Conference | October 15, 2024.
Technical Conference (live via Microsoft Teams) | October 16, 2024, at 1:00 p.m. Eastern Time (ET).
Intervention Deadline:
Filing of Notice of Intervention | October 21, 2024.
Discovery Deadlines for the Postal Service's Direct Case:
Last Filing of Discovery Requests | November 5, 2024.
Filing of the Postal Service's Answers to Discovery | November 12, 2024.
Deadlines in Preparation for Hearing (assuming no rebuttal case):
Filing of Notice Confirming Intent to Oral Conduct Cross-Examination | November 25, 2024.
Filing of Request to Present Oral Argument | November 25, 2024.
Filing of Notice of Designations (Parties) | November 26, 2024.
Filing of Notices of Designated Materials (Postal Service) | December 2, 2024.
Rebuttal Case Deadlines (if applicable):
Filing of Notice Confirming Intent to File a Rebuttal Case | November 27, 2024.
Filing of Rebuttal Case | December 4, 2024.
Surrebuttal Case Deadlines (if applicable):
Filing of Motion for Leave to File Surrebuttal Case | December 6, 2024.
Filing of Response to Motion for Leave to File Surrebuttal Case | December 10, 2024.
Filing of Surrebuttal Case (if authorized) | December 13, 2024.
Hearing Dates:
Hearings (with no Rebuttal Case) | December 4 to 6, 2024.
Hearings (with Rebuttal Case, but no authorized Surrebuttal Case) | December 11 to 13, 2024.
Hearings (with Rebuttal Case and authorized Surrebuttal Case) | December 18 to 20, 2024.
Briefing Deadlines:
Filing of Initial Briefs (with no Rebuttal Case) | December 12, 2024.
Filing of Reply Briefs (with no Rebuttal Case) | December 19, 2024.
Statement of Position Deadline:
Filing of Statement of Position (with no Rebuttal Case) | December 12, 2024.
Advisory Opinion Deadline:
Filing of Advisory Opinion | January 31, 2025.

Docket N2024-1 Template To Attach To Motion for Access to Non-Public Material Protective Conditions Statement

The Postal Service requests confidential treatment of non-public materials identified as ___ (non-confidential description of non-public materials) (hereinafter “these materials”) in Commission Docket No. N2024-1. ___ (name of participant filing motion) (hereinafter “the movant”) requests access to these materials related to Commission Docket No. N2024-1 (hereinafter “this matter”).

The movant has provided to each person seeking access to these materials:

○ This Protective Conditions Statement;

○ The Certification to Comply with Protective Conditions;

○ The Certification of Compliance with Protective Conditions and Termination of Access; and

○ The Commission's rules applicable to access to non-public materials filed in Commission proceedings (subpart C of part 3011 of the U.S. Code of Federal Regulations).

Each person (and any individual working on behalf of that person) seeking access to these materials has executed a Certification to Comply with Protective Conditions by signing in ink or by typing /s/ before his or her name in the signature block. The movant attaches the Protective Conditions Statement and the executed Certification(s) to Comply with Protective Conditions to the motion for access filed with the Commission.

The movant and each person seeking access to these materials agree to comply with the following protective conditions:

1. In accordance with 39 CFR 3011.303, the Commission may impose sanctions on any person who violates these protective conditions, the persons or entities on whose behalf the person was acting, or both.

2. In accordance with 39 CFR 3011.300(b), no person involved in competitive decision-making for any individual or entity that might gain competitive advantage from using these materials shall be granted access to these materials. Involved in competitive decision-making includes consulting on marketing or advertising strategies, pricing, product research and development, product design, or the competitive structuring and composition of bids, offers or proposals. It does not include rendering legal advice or performing other services that are not directly in furtherance of activities in competition with an individual or entity having a proprietary interest in the protected material.

3. In accordance with 39 CFR 3011.302(a), a person granted access to these materials may not disseminate these materials in whole or in part to any person not allowed access pursuant to 39 CFR 3011.300(a) (Commission and court personnel) or 3011.301 (other persons granted access by Commission order) except in compliance with:

a. Specific Commission order,

b. Subpart B of 39 CFR 3011 (procedure for filing these materials in Commission proceedings), or

c. 39 CFR 3011.305 (production of these materials in a court or other administrative proceeding).

4. In accordance with 39 CFR 3011.302(b) and (c), all persons granted access to these materials:

a. Must use these materials only related to this matter; and

b. Must protect these materials from any person not authorized to obtain access under 39 CFR 3011.300 or 3011.301 by using the same degree of care, but no less than a reasonable degree of care, to prevent the unauthorized disclosure of these materials as those persons, in the ordinary course of business, would be expected to use to protect their own proprietary material or trade secrets and other internal, confidential, commercially sensitive, and privileged information.

5. The duties of each person granted access to these materials apply to all:

a. Disclosures or duplications of these materials in writing, orally, electronically, or otherwise, by any means, format, or medium;

b. Excerpts from, parts of, or the entirety of these materials;

c. Written materials that quote or contain these materials; and

d. Revised, amended, or supplemental versions of these materials.

6. All copies of these materials will be clearly marked as “Confidential” and bear the name of the person granted access.

7. Immediately after access has terminated pursuant to 39 CFR 3011.304(a)(1), each person (and any individual working on behalf of that person) who has obtained a copy of these materials must execute the Certification of Compliance with Protective Conditions and Termination of Access. In compliance with 39 CFR 3011.304(a)(2), the movant will attach the executed Certification(s) of Compliance with Protective Conditions and Termination of Access to the notice of termination of access filed with the Commission.

8. Each person granted access to these materials consents to these or such other conditions as the Commission may approve.

Respectfully submitted,

/s/

Attorney/Non-Attorney Representative for

(signature of representative)

(print name of representative)

(address line 1 of representative)

(address line 2 of representative)

(telephone number of representative)

(e-mail address of representative)

(choose the appropriate response)

(name of the movant)

You may delete the instructional text to complete this form. This form may be filed as an attachment to the motion for access to non-public materials under 39 CFR 3011.301(b)(5).

Certification To Comply With Protective Conditions

The Postal Service requests confidential treatment of non-public materials identified as ___ (non-confidential description of non-public materials) (hereinafter “these materials”) filed in Commission Docket No. N2024-1.

___ (name of participant filing motion) requests that the Commission grant me access to these materials to use related to Docket No. N2024-1 (hereinafter “this matter”). I certify that:

○ I have read and understand the Protective Conditions Statement and this Certification to Comply with Protective Conditions;

○ I am eligible to receive access to these materials because I am not involved in competitive decision-making for any individual or entity that might gain competitive advantage from using these materials; and

○ I will comply with all protective conditions established by the Commission.

/s/

(signature of individual receiving access)

(print name of individual receiving access)

(title of individual receiving access)

(employer of individual receiving access)

(name of the participant filing the motion)

(date)

You may delete the instructional text to complete this form. This form may be filed as an attachment to the motion for access to non-public materials under 39 CFR 3011.301(b)(6).

[FR Doc. 2024-23853 Filed 10-16-24; 8:45 am]

BILLING CODE 7710-FW-P